INTERNATIONAL TRADE COMMISSION

Sunshine Act Meeting; Notice

[USITC SE-05-008]

Agency Holding the Meeting: United States International Trade Commission.

Time and Date: March 23, 2005 at 9:30 a.m.

Place: Room 101, 500 E Street, SW., Washington, DC 20436; Telephone: (202) 205-2000.

Status: Open to the public.

Matters to be Considered:

1. Agenda for future meetings: None.

2. Minutes.

3. Ratification List.

4. Inv. Nos. 731-TA-1071 and 1072 (Final) (Magnesium from China and Russia)—briefing and vote. (The Commission is currently scheduled to transmit its determination and Commissioners' opinions to the Secretary of Commerce on or before April 4, 2005.)

5. Outstanding action jackets: None.

In accordance with Commission policy, subject matter listed above, not disposed of at the scheduled meeting, may be carried over to the agenda of the following meeting.

Issued: March 16, 2005.
By order of the Commission.
Marilyn R. Abbott,
Secretary to the Commission.

[FR Doc. 05-5516 Filed 3-16-05; 1:19 pm]

BILLING CODE 7020-02-P